DEPARTMENT OF ENERGY

Federal Energy Regulatory Commission

Combined Notice of Filings No 2

May 5, 2010.

Take notice that the Commission has received the following Natural Gas Pipeline Rate and Refund Report filings:

Docket Numbers: RP10-578-001.

Applicants: Gulf Crossing Pipeline Company LLC.

Description: Gulf Crossing Pipeline Company, LLC submits a replacement amendment to a negotiated rate letter agreement.

Filed Date: 04/29/2010.

Accession Number: 20100430-0205.

Comment Date: 5 p.m. Eastern Time on Tuesday, May 11, 2010.

Docket Numbers: RP10-446-001.

Applicants: Guardian Pipeline, L.L.C.

Description: Guardian Pipeline, LLC submits Second Revised Sheet 5.02 et al. effective 6/1/10.

Filed Date: 04/30/2010.

Accession Number: 20100430-0228.

Comment Date: 5 p.m. Eastern Time on Wednesday, May 12, 2010.

Docket Numbers: RP10-502-001.

Applicants: Northern Natural Gas Company.

Description: Northern Natural Gas Company submits Sub. Third Revised Sheet 510 of its FERC Gas tariff, Revised Volume 1.

Filed Date: 04/30/2010.

Accession Number: 20100430-0226.

Comment Date: 5 p.m. Eastern Time on Wednesday, May 12, 2010.

Docket Numbers: RP10-652-001.

Applicants: Dominion South Pipeline Company, LP.

Description: Dominion South Pipeline Company, LP submits tariff filing per 154.203: DSP 4-30-10 RTF Fix to be effective 4/28/2010.

Filed Date: 04/30/2010.

Accession Number: 20100430-5041.

Comment Date: 5 p.m. Eastern Time on Wednesday, May 12, 2010.

Docket Numbers: RP10-401-002.

Applicants: Columbia Gas Transmission, LLC.

Description: Columbia Gas Transmission, LLC's Report on Operational Need for Millennium FT-1 Capacity.

Filed Date: 05/03/2010.

Accession Number: 20100503-5150.

Comment Date: 5 p.m. Eastern Time on Monday, May 17, 2010.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-11119 Filed 5-10-10; 8:45 am]

BILLING CODE 6717-01-P